DEPARTMENT OF ENERGY

Federal Energy Regulatory Commission

Combined Notice of Filings

Take notice that the Commission has received the following Natural Gas Pipeline Rate and Refund Report filings:

Filings Instituting Proceedings

Docket Number: PR18-32-000.

Applicants: Bay Gas Storage Company, Ltd.

Description: Tariff filing per 284.123(b),(e)/: Annual Adjustment to Company Use Percentage to be effective 3/1/2018.

Filed Date: 2/23/18.

Accession Number: 201802235048.

Comments/Protests Due: 5 p.m. ET 3/16/18.

Docket Number: PR18-34-000.

Applicants: Duke Energy Ohio, Inc.

Description: Tariff filing per 284.123(b),(e)/: Informational Filing in Support of Existing State Rate Election to be effective 3/1/2018.

Filed Date: 2/26/18.

Accession Number: 201802265137.

Comments/Protests Due: 5 p.m. ET 3/19/18.

Docket Numbers: RP18-472-000.

Applicants: Dominion Energy Carolina Gas Transmission.

Description: § 4(d) Rate Filing: DECG—February 27, 2018 Negotiated Rate Agreements to be effective 3/1/2018.

Filed Date: 2/27/18.

Accession Number: 20180227-5027.

Comments Due: 5 p.m. ET 3/12/18.

Docket Numbers: RP18-473-000.

Applicants: Southern Star Central Gas Pipeline, Inc.

Description: Compliance filing Tariff Waiver—ROFR Posting.

Filed Date: 2/27/18.

Accession Number: 20180227-5032.

Comments Due: 5 p.m. ET 3/12/18.

Docket Numbers: RP18-474-000.

Applicants: Golden Pass Pipeline LLC.

Description: Compliance filing Golden Pass Pipeline 2018 Annual Retainage Report to be effective 4/1/2018.

Filed Date: 2/27/18.

Accession Number: 20180227-5141.

Comments Due: 5 p.m. ET 3/12/18.

Docket Numbers: RP18-475-000.

Applicants: Golden Pass Pipeline LLC.

Description: Compliance filing Golden Pass Pipeline Annual Operational Purchases and Sales Report.

Filed Date: 2/27/18.

Accession Number: 20180227-5159.

Comments Due: 5 p.m. ET 3/12/18.

Docket Numbers: RP18-476-000.

Applicants: High Island Offshore System, L.L.C.

Description: 2018 Annual Fuel Filing.

Filed Date: 2/27/18.

Accession Number: 20180227-5188.

Comments Due: 5 p.m. ET 3/12/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 28, 2018.
Nathaniel J. Davis, Sr.,
Deputy Secretary.

[FR Doc. 2018-04490 Filed 3-5-18; 8:45 am]

BILLING CODE 6717-01-P